DEPARTMENT OF ENERGY

Energy Employees Occupational Illness Compensation Program Act of 2000; Revision to the List of Covered Facilities

AGENCY: Department of Energy.

ACTION: Notice of revision of listing of covered facilities.

SUMMARY: The Department of Energy (“Department” or “DOE”) periodically publishes revisions to its list of facilities covered under the Energy Employees Occupational Illness Compensation Program Act of 2000, as amended (“EEOICPA” or “Act”). This notice amends the list of covered facilities by removing the designation of the Bridgeport Brass facility in Adrian, Michigan, as an atomic weapons employer (AWE) facility.

ADDRESSES: The Department welcomes comments on this notice. Comments should be addressed to: Patricia R. Worthington, Ph.D., Director, Office of Health and Safety (HS-10), U.S. Department of Energy, 1000 Independence Avenue SW., Washington, DC 20585.

FOR FURTHER INFORMATION CONTACT: Patricia R. Worthington, Ph.D., Director, Office of Health and Safety (HS-10), (301) 903-5926.

SUPPLEMENTARY INFORMATION:

This notice amends the list of covered facilities by removing the designation of the Bridgeport Brass facility in Adrian, Michigan, as an atomic weapons employer (AWE) facility. Previous lists or revisions were published by DOE on February 6, 2012 (77 FR 24); May 26, 2011 (76 FR 102); June 30, 2010 (75 FR 125), as amended August 3, 2010 (75 FR 148); April 9, 2009 (74 FR 67); June 28, 2007 (72 FR 124); November 30, 2005 (70 FR 229); August 23, 2004 (69 FR 162); July 21, 2003 (68 FR 139); December 27, 2002 (67 FR 249); June 11, 2001 (66 FR 112); and January 17, 2001 (66 FR 11).

Purpose

EEOICPA establishes a program to provide compensation to certain employees who develop illnesses as a result of their employment with AWEs, DOE and its predecessor Agencies, certain of its contractors and subcontractors, and listed beryllium vendors. Section 3621(4) of the Act (codified at 42 U.S.C. 7384l(4)) defines an AWE as “an entity, other than the United States, that—(A) processed or produced, for use by the United States, material that emitted radiation and was used in the production of an atomic weapon, excluding uranium mining and milling; and (B) is designated by the Secretary of Energy as an [AWE] for purposes of the compensation program.” Section 3621(5) defines an AWE facility as “a facility, owned by an [AWE] that is, or was, used to process or produce, for use by the United States, material that emitted radiation and was used in the production of an atomic weapon, excluding uranium mining or milling.”

It has recently come to the attention of the Department that the Bridgeport Brass facility in Adrian, Michigan, was mistakenly identified as an AWE facility in the Department's previous lists. Records related to the Bridgeport Brass facility indicate that the United States, not Bridgeport Brass, owned the facility in Adrian, Michigan, and, therefore, it does not meet the above definition of an AWE facility.

This notice formally makes the changes to the listing of the covered facility as indicated below:

• The Bridgeport Brass facility in Adrian, Michigan, is no longer designated as an AWE facility. This change has no effect on any determination by the Department of Labor regarding the status of the site.

Issued in Washington, DC, on January 24, 2013.
Glenn S. Podonsky,
Chief Health, Safety and Security Officer, Office of Health, Safety and Security.

[FR Doc. 2013-03022 Filed 2-8-13; 8:45 am]

BILLING CODE 6450-01-P